DEPARTMENT OF JUSTICE

Notice of Lodging of Proposed Consent Decree Under the Clean Water Act

On November 13, 2012, the Department of Justice lodged a proposed Consent Decree with the United States District Court for the Southern District of Iowa, Davenport, in the lawsuit entitled United States v. Roquette America, Inc., Civil Action No. 3:12-cv-00131-JEG-RAW.

The Consent Decree resolves the United States' complaint for civil penalties and injunctive relief against Roquette America, Inc., associated with its corn-milling facility in Keokuk, Iowa, pursuant to sections 309(b) and (d) of the Clean Water Act for violations of RAI's National Pollutant Discharge Elimination System permits under sections 301 and 402 of the CWA. Under this settlement RAI will pay a civil penalty of $4.1 million and perform injunctive relief upgrading various portions of the facility. The estimated cost of the injunctive relief exceeds $17 million.

The publication of this notice opens a period for public comment on the Consent Decree. Comments should be addressed to the Assistant Attorney General, Environment and Natural Resources Division, and should refer to United States v. Roquette America, Inc. D.J. Ref. No. 90-5-1-1-10177. All comments must be submitted no later than thirty (30) days after the publication date of this notice. Comments may be submitted by either email or mail:

To submit comments: | Send them to:
By email | pubcomment-ees.enrd@usdoj.gov.
By mail | Assistant Attorney General, U.S. DOJ—ENRD, P.O. Box 7611, Washington, DC 20044-7611.

During the public comment period, the Consent Decree may be examined and downloaded for free at the following Department of Justice Web site: http://www.usdoj.gov/enrd/Consent_Decrees.html. We will provide a paper copy of the Consent Decree upon written request and payment of reproduction costs. Please mail your request and payment to: Consent Decree Library, P.O. Box 7611, U.S. Department of Justice, Washington, DC 20044-7611.

Please enclose a check or money order for $10.50 (25 cents per page reproduction cost) payable to the United States Treasury.

Robert E. Maher, Jr.,
Acting Deputy Section Chief, Environmental Enforcement Section, Environment and Natural Resources Division.

[FR Doc. 2012-27982 Filed 11-16-12; 8:45 am]

BILLING CODE 4410-15-P